DEPARTMENT OF HEALTH AND HUMAN SERVICES

Administration for Children and Families

Submission for OMB Review; Comment Request

Title: Descriptive Study of Early Head Start (DSEHS).

OMB No.: New Collection.

Description: The Administration for Children and Families (ACF), U.S. Department of Health and Human Services (HHS), requests clearance to recruit Early Head Start (EHS) programs for participation in the Descriptive Study of Early Head Start (DSEHS) and to conduct a pilot test of potential measures.

DSEHS is a longitudinal study of a representative sample of programs and children in three age cohorts, which will collect information about programs, families, and services. When completed, data will be collected on a sample of approximately 2,100 children and families from 60 EHS programs. Data will be collected in four waves: Fall 2008, Fall 2009, Fall 2010, and Fall 2011. Children and families will be followed until children are three years old and exit EHS programs.

Data collected under DSEHS will complement information gathered under the Survey of Early Head Start Programs (SEHSP), OMB Control No. 0992-0008. SEHSP gathered information on the management systems, services, and characteristics of children and families served by EHS programs. To complement this information, DSEHS will gather information on the needs and characteristics of children and families enrolled in EHS programs, including an assessment of children's and families' needs, how programs meet the needs of children and families in EHS programs, and how children and families in EHS programs progress over time.

The activity proposed under this notice includes only the data collected during the selection and recruitment of programs to participate in DSEHS and a pilot study on the feasibility of proposed measures.

To select and recruit programs, ACF intends to send letters to program directors of selected EHS programs. Directors will receive a summary of the study goals that will include an overview of the design and data collection, a brochure describing the study, and examples of the consent materials for enrolling study participants. Programs will not be asked to enroll participants during the initial selection and recruitment phase.

Selected programs may also receive a follow-up phone call to answer questions from EHS directors or staff. Program directors will be asked to provide information on the numbers of families enrolled with children who will be within two months of the target ages at the time of each of the four fall data collections.

ACF intends to conduct a feasibility pilot study at two EHS programs in June 2008. In the pilot study, ACF will test the feasibility of administering various direct child assessment measures and parent interviews.

Respondents: EHS Program Directors, parents, and Children.

Annual Burden Estimates
Instrument | Annual number of respondents | Number of responses per respondent | Average burden hours per response | Estimated annual burden hours
Recruitment materials sent to program sites | 60 | 1 | .25 | 15
Program roster of children in target ages | 60 | 1 | .50 | 30
Pilot Test—Child Assessment | 40 | 1 | 1.0 | 40
Pilot Test—Parent Interview | 40 | 1 | 1.0 | 40

Estimated Total Annual Burden Hours: 125.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, FAX: 202-395-6974, Attn: Desk Officer for ACF.

January 29, 2008.
Brendan Kelly,
Reports Clearance Officer.

[FR Doc. 08-529 Filed 2-6-08: 8:45 am]

BILLING CODE 4184-01-M